DEPARTMENT OF LABOR

Office of the Secretary

[Secretary's Order 1-2004]

Delegation of Authorities and Assignment of Responsibilities for the Department of Labor's Internal Equal Employment Opportunity Programs

1. Purpose. To establish policy, delegate authority, and assign responsibility for complying with and enforcing equal employment opportunity (EEO) laws and regulations applicable to Federal employment in the Department of Labor (DOL).

2. Authority and Directives Affected.

a. Authority. This Order is issued pursuant to civil rights and nondiscrimination statutes, executive orders, and implementing regulations related to Federal employment and equal employment opportunity programs. This includes, but is not limited to: Title VII of the Civil Rights Act of 1964, as amended; the Equal Pay Act; the Age Discrimination in Employment Act of 1967, as amended, the Rehabilitation Act of 1973, as amended; the Civil Service Reform Act of 1978; the Civil Rights Act of 1991; the No FEAR Act; Executive Order 11478, as amended; Executive Order 11375, as amended; Executive Order 13145; Executive Order 13163; Executive Order 13164; Executive Order 13171; 5 U.S.C. 720 (marital status and political affiliation); 5 U.S.C. 7201 (Federal Equal Opportunity Recruitment Program); 38 U.S.C. 4214 (Disabled Veterans Affirmative Action Plan); 29 U.S.C. 791 (Affirmative Action Program Plan for Individuals with Disabilities); 38 U.S.C. 4212 (Vietnam Era Veterans' Readjustment Assistance Act of 1974), as amended; 29 CFR 1614 (EEOC Complaint Procedures Regulations); and the Equal Employment Opportunity Commission's (EEOC) Management Directives 110 (Complaint Processing) and 715 (Affirmative Action).

b. Directives Affected. Secretary's Order 03-96 is cancelled.

3. Policy. It is the policy of the Department to provide equal employment opportunity for all DOL employees and applicants for DOL employment in accordance with applicable federal statutes, regulations, executive orders and departmental policy.

4. Scope. This Order applies to all DOL personnel, organizational components, and activities.

5. Delegation of Authority and Assignment of Responsibilities.

a. The Assistant Secretary for Administration and Management (“ASAM”) is delegated authority and assigned responsibility for:

(1) Administering a comprehensive, department-wide program to carry out the Department's equal employment opportunity policy and fulfilling the Department's obligations arising from equal employment opportunity statutes and their implementing executive orders, rules, regulations, and guidelines covering Federal employees and applicants for Federal employment;

(2) Appointing Departmental managers for special emphasis programs, such as the Federal Women's Program, Hispanic Employment Program, and the Disability Employment Program;

(3) Preparing Employment Program plans for women and minorities and making recommendations to Agency Heads for any necessary modifications prior to preparing and forwarding the Departmental plan to the Secretary of Labor for transmittal to EEOC;

(4) Preparing the Department's Disabled Veterans Affirmative Action Program (DVAAP), Federal Equal Employment Opportunity Recruitment Program (FEORP) plans, and the Affirmative Employment Program Plan for Individuals with Disabilities;

(5) Providing effective leadership in the implementation of special employment programs, such as the Federal Women's Program and the Hispanic Employment Program; and

(6) Making further delegations of the authority and assignments of the responsibility described in 5a of this Order.

b. The Director of the Civil Rights Center (“CRC”), within the Office of the Assistant Secretary for Administration and Management, is delegated the authority and assigned the responsibility for:

(1) Administering all aspects of the administrative processing of discrimination complaints filed by employees and applicants for employment in accordance with 29 CFR part 1614 including, but not limited to, providing for counseling, alternative dispute resolution, and investigation of such complaints, except those that include allegations against the CRC, the immediate office of the ASAM and for other complaints determined by the Director of the CRC to constitute a potential conflict of interest;

(2) Issuing final decisions and taking final actions on discrimination complaints in a timely manner in accordance with 29 CFR part 1614, except those decisions on complaints filed by employees and applicants for employment arising from within the Office of the Inspector General, which will be issued by the Secretary;

(3) Appointing counselors, fact-finders, mediators or other individuals to engage in alternative dispute resolution;

(4) Preparing such EEO-related reports as may be required by the EEOC or the Office of Personnel Management, except the DVAAP plan, the FEORP plan and Affirmative Employment Program Plan for Individuals with Disabilities;

(5) Advising the Secretary of Labor, through the ASAM, about the status of equal employment opportunity throughout DOL;

(6) Recommending changes to programs and procedures designed to eliminate practices that act as barriers to the hiring and advancement of women, minorities, and persons with disabilities, with the goal of improving the Department's overall EEO Program;

(7) Advising the agencies about physical and program accessibility issues that affect individuals with disabilities;

(8) Evaluating the sufficiency of the total Agency program for equal employment opportunity and reporting to the head of the Agency with recommendations as to any improvements or corrections needed, including remedial and disciplinary action with respect to managerial, supervisory or other employees who have failed in their responsibilities;

(9) Reviewing appeal recommendations by a Department of Labor Agency and counsel representing the Agency at hearings before the EEOC and deciding, with the concurrence of the Office of the Solicitor, whether to appeal adverse decisions issued by EEOC administrative judges; and

(10) Making further delegations of authority and assignments of the responsibilities described in 5b of this Order.

c. The Solicitor of Labor is delegated authority and assigned responsibility for the following aspects of the Department's EEO program:

(1) Providing counsel to the Secretary, ASAM, the Director of the CRC, and Agency Heads in implementing the Department's EEO program;

(2) Providing legal representation to the Department at hearings and court proceedings arising out of the EEO program;

(3) Providing legal advice to managers, supervisors, and other employees who are assisting management in personnel matters during the course of their official duties, and who, in their official capacity, request a review of their EEO affidavits prior to their submission to an EEO investigator for inclusion in the EEO file;

(4) Providing advice and counsel to the CRC regarding appeal recommendations as described in 5b(9) of this Order; and

(5) Making further delegations of authority and assignments of the responsibilities described in 5c of this Order.

d. The Chair of the Administrative Review Board is delegated authority and assigned responsibility for the following aspects of the Department's EEO programs:

(1) Providing for all aspects of the administrative processing of discrimination complaints including the assignment of counselors, investigators, and the issuance of final decisions in complaints involving allegations of discrimination against the CRC, the immediate office of the ASAM, and for those complaints determined by the Director of the CRC to constitute a potential conflict of interest; and

(2) Making further delegations of the authority and assignment of responsibilities described in 5d of this Order.

e. DOL Agency Heads are delegated authority and assigned responsibility for leadership in the implementation of the Department's EEO program and policies within the Agency pursuant to policy direction from the ASAM and procedural guidance from the Director of the CRC or the officials acting in those capacities. Such responsibilities include, but are not limited to, the following:

(1) Providing active support of, and participation in, the planning and implementation of affirmative employment and special emphasis program initiatives including the appointment of EEO Coordinators and the establishment of EEO Committees;

(2) Assuring full and prompt cooperation of Agency employees and officials with DOL's EEO policies, procedures, and direction from officials charged with implementing DOL's equal employment opportunity program;

(3) Providing sufficient Agency funds and other resources to assure effective implementation of DOL's EEO policies and procedures including training of employees on EEO matters, expenditures related to reasonable accommodations, such as payment of interpreter services, and medical review of reasonable accommodation requests;

(4) Providing facilities for and bearing all costs related to a discrimination complaint filed against the Agency including, but not limited to, Agency EEO counselor training and travel as may be required, all hearing costs, settlement costs, including compensatory damages, and attorney fees as may be applicable; and

(5) Making further delegations of the authority and assignment of responsibilities described in 5e of this Order.

f. The Office of the Chief Financial Officer is delegated authority and assigned responsibility for the following aspects of the Department's EEO programs:

(1) Processing the payment of all awards and/or settlement agreements resulting from EEO complaints; and

(2) Making further delegations of the authority and assignment of responsibilities described in 5f of this Order.

6. Effective Date. This Order is effective immediately.

Dated: April 15, 2004.
Elaine L. Chao,
Secretary of Labor.

[FR Doc. 04-11869 Filed 5-25-04; 8:45 am]

BILLING CODE 4510-23-P